NUCLEAR REGULATORY COMMISSION

[Docket No. 030-05295]

Environmental Assessment and Finding of No Significant Impact

AGENCY: U.S. Nuclear Regulatory Commission.

ACTION: Notice of Environmental Assessment and Finding of no Significant Impact related to license amendment of Byproduct Material License No. 29-03761-01, Warner-Lambert Company, Morris Plains, New Jersey.

SUMMARY: The U.S. Nuclear Regulatory Commission (NRC) is considering the issuance of a license amendment to Byproduct Material License No. 29-03761-01 to authorize release of its facility in Morris Plains, New Jersey, for unrestricted use and has prepared an Environmental Assessment in support of this action. Based upon the Environmental Assessment, the NRC has concluded that a Finding of No Significant Impact is appropriate, and, therefore, an Environmental Impact Statement is unnecessary.

FOR FURTHER INFORMATION CONTACT: Betsy Ullrich, Division of Nuclear Materials Safety, U.S. Nuclear Regulatory Commission, Region I, 475 Allendale Road, King of Prussia, Pennsylvania 19406; telephone (610) 337-5040 or e-mail exu@nrc.gov.

SUPPLEMENTARY INFORMATION: The U. S. Nuclear Regulatory Commission is considering terminating Byproduct Materials License No. 29-03761-01 and authorizing the release of the licensee's facilities in Morris Plains, New Jersey, for unrestricted use and has prepared an Environmental Assessment (EA) and a Finding of No Significant Impact (FONSI) in support of this action.

SUMMARY: The U. S. Nuclear Regulatory Commission (NRC) reviewed the results of the decommissioning of the Warner-Lambert Company (Warner-Lambert) facility in Morris Plains, New Jersey. Warner-Lambert was authorized by NRC from 1963 to 2002 to use radioactive materials for research and development purposes at the site. In 2002, Warner-Lambert ceased operations with licensed materials at the Morris Plains site, and requested that NRC terminate its license. Warner-Lambert has conducted surveys of the facility and determined that the facility meets the license termination criteria in subpart E of 10 CFR part 20. The NRC staff has evaluated Warner-Lambert's request and results of the surveys, and has developed an Environmental Assessment (EA) in accordance with the requirements of 10 CFR part 51. Based on the staff evaluation, the conclusion of the EA is a Finding of No Significant Impact (FONSI) on human health and the environment for the proposed licensing action.

Introduction

Warner-Lambert Company (Warner-Lambert) requested release for unrestricted use of the buildings at 170 and 182 Tabor Road, Morris Plains, New Jersey as authorized by the NRC License No. 29-03761-01, and termination of the license. License No. 29-03761-01 was issued in 1963 and amended periodically since that time. It authorizes Warner-Lambert to perform activities at 170, 175 and 182 Tabor Road, Morris Plains, New Jersey. The building at 175 Tabor Road, although authorized on the license, was not used for licensed activities. NRC-licensed activities performed at the Morris Plains site were limited to laboratory procedures typically performed on bench tops and in hoods. A variety of radionuclides were used primarily for research and development, but past activities also included manufacture and distribution of radio-labeled pharmaceuticals for medical research. No outdoor areas were affected by the use of licensed materials.

Licensed activities ceased completely in June 2002, and the licensee requested termination of the license and release of the facilities for unrestricted use. Based on the licensee's historical knowledge of the site and the conditions of the facility, the licensee determined that only routine decontamination activities, in accordance with licensee radiation safety procedures, were required. A decommissioning plan was not required to be submitted to the NRC. The licensee surveyed the facilities, decontaminated or remediated areas as needed, and provided documentation that the facilities meet the license termination criteria specified in subpart E of 10 CFR part 20, and do not require additional decommissioning activities to be performed. The licensee subsequently requested that the facilities be released for unrestricted use.

The Proposed Action

The proposed action is to terminate Byproduct Materials License No. 29-03761-01 and release the facilities at 170 and 182 Tabor Road, Morris Plains, New Jersey for unrestricted use. Warner-Lambert provided survey results which demonstrate that the Morris Plains site is in compliance with the radiological criteria for license termination in subpart E, 10 CFR part 20, “Radiological Criteria for License Termination.”

Purpose and Need for the Proposed Action

The purpose of the proposed action is to terminate Byproduct Materials License No. 29-03761-01 and release the Warner-Lambert site in Morris Plains, New Jersey, for unrestricted use. NRC is fulfilling its responsibilities under the Atomic Energy Act to make a decision on a proposed license amendment for termination of a license and release of facilities for unrestricted use that ensures protection of public health and safety and the environment.

Alternative to the Proposed Action

The only alternative to the proposed action of termination of the license and release of the Morris Plains site for unrestricted use is no action. The no-action alternative is not acceptable because the licensee does not plan to perform any activities with licensed materials at those locations and does not plan to maintain staff to perform licensed activities.

The Affected Environment and Environmental Impacts

The NRC staff has reviewed the surveys performed by Warner-Lambert to demonstrate compliance with the 10 CFR 20.1402 license termination criteria. Based on its review, the staff has determined that the affected environment and environmental impacts associated with the release for unrestricted use of the Warner-Lambert Morris Plains facilities are bounded by the impacts evaluated by the “Generic Environmental Impact Statement in Support of Rulemaking on Radiological Criteria for License Termination of NRC-Licensed Nuclear Facilities” (NUREG-1496). The staff also finds that the proposed release for unrestricted use of the Warner-Lambert facilities is in compliance with Title 10, Code of Federal Regulations, 10 CFR 20.1402, “Radiological Criteria for Unrestricted Use.”

Agencies and Persons Consulted

This Environmental Assessment was prepared entirely by the NRC staff. The State Office of Historical Preservation, the State Fish and Wildlife Service, and the U. S. Fish and Wildlife Service were not contacted because release of the Warner-Lambert facilities for unrestricted use does not affect historical or cultural resources, nor will it affect threatened or endangered species. No other sources were used beyond those referenced in the EA.

NRC provided a draft of its Environmental Assessment to the State of New Jersey Department of Environmental Protection (NJDEP) for review. On January 9, 2003, NJDEP responded by letter, provided editorial comments and agreed with the conclusions of the EA.

Finding of No Significant Impact

The NRC staff concluded that the completed action complies with 10 CFR part 20. NRC has prepared this EA in support of the proposed license amendment to terminate the license and release the facilities for unrestricted use. On the basis of the EA, NRC has concluded that the environmental impacts from the proposed action are expected to be insignificant and has determined not to prepare an environmental impact statement for the proposed action.

List of Preparers

Betsy Ullrich, Senior Health Physicist, Division of Nuclear Materials Safety, Region 1.

List of References

1. NRC License No. 29-03761-01 inspection and licensing records.

2. Letter dated September 5, 2002, with enclosures, from Pfizer Consumer Healthcare for Warner-Lambert Company. [ADAMS Accession No. ML022670617]

3. Letter dated November 18, 2002, with attachments, from Pfizer Consumer Healthcare for Warner-Lambert Company. [ADAMS Accession No. ML023250206]

The application for the license amendment and supporting documentation are available for inspection at NRC's Public Electronic Reading Room at http://www.nrc.gov/reading-rm/ADAMS.html. Any questions with respect to this action should be referred to Betsy Ullrich, Nuclear Materials Safety Branch 2, Division of Nuclear Materials Safety, Region I, 475 Allendale Road, King of Prussia, Pennsylvania 19406, telephone (610) 337-5040, fax (610) 337-5269.

Dated at King of Prussia, Pennsylvania this 23rd day of January, 2002.
For the Nuclear Regulatory Commission.
John D. Kinneman,
Chief, Nuclear Materials Safety Branch 2, Division of Nuclear Materials Safety, Region I.

[FR Doc. 03-2309 Filed 1-30-03; 8:45 am]

BILLING CODE 7590-01-P